DEPARTMENT OF LABOR

Employment and Training Administration

[TA-W-52,511]

Cooper Crouse-Hinds Myers-Hub, Montebello, CA; Notice of Termination of Investigation

Pursuant to Section 221 of the Trade Act of 1974, as amended, an investigation was initiated on August 11, 2003 in response to a worker petition filed on behalf of workers at Cooper Crouse-Hinds Myers-Hub, Montebello, California.

A petitioner has requested that the petition be withdrawn. Consequently, the investigation has been terminated.

Signed at Washington, DC, this 18th day of August, 2003.
Elliott S. Kushner,
Certifying Officer, Division of Trade Adjustment Assistance.

[FR Doc. 03-22281 Filed 8-29-03; 8:45 am]

BILLING CODE 4510-30-P